DEPARTMENT OF STATE

[Public Notice 12369]

60-Day Notice of Proposed Information Collection: DS-156E, Nonimmigrant Treaty Trader/Investor Application

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to June 28, 2024.

ADDRESSES: You may submit comments by any of the following methods:

• Web: Persons with access to the internet may comment on this notice by going to www.Regulations.gov. You can search for the document by entering “Docket Number: DOS-2024-0012” in the Search field. Then click the “Comment Now” button and complete the comment form.

• Email: PRA_BurdenComments@state.gov.

• Regular Mail: Send written comments to: Jami Thompson, Senior Regulatory Coordinator, Visa Services, Department of State, 600 19th St. NW, Washington, DC 20006.

You must include the DS form number (if applicable), information collection title, and the OMB control number in any correspondence.

FOR FURTHER INFORMATION CONTACT: Direct requests for additional information regarding the collection listed in this notice, including requests for copies of the proposed collection instrument and supporting documents, to Anabel Moreno-Mendez, Visa Services, Department of State, 600 19th St. NW, Washington, DC 20006, who may be reached at 202-485-7611 or PRA_BurdenComments@state.gov.

SUPPLEMENTARY INFORMATION:

• Title of Information Collection: DS-156E, Nonimmigrant Treaty Trader/Investor Application.

• OMB Control Number: 1405-0101.

• Type of Request: Extension of a Currently Approved Collection.

• Originating Office: CA/VO.

• Form Number: DS-156E.

• Respondents: Nonimmigrant Treaty Traders/Investors applying for E-visas.

• Estimated Number of Respondents: 43,000.

• Estimated Number of Responses: 43,000.

• Average Time per Response: 4 hours.

• Total Estimated Burden Time: 172,000 hours.

• Frequency: Once Per Application.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Under section 101(a)(15)(E) of the Immigration and Nationality Act (INA) (8 U.S.C. 1101(a)(15)(E)), noncitizens of certain countries may qualify for a nonimmigrant visa to carry out activities as a treaty traders, treaty investors, or other treaty workers in specialty occupation. Such individuals must be nationals of countries with a qualifying Treaty of Friendship, Commerce, and Navigation or its equivalent with the United States, or that is accorded such privileges by specific legislation. The Department uses the DS-156E to elicit information necessary to determine a foreign national's qualification for a nonimmigrant visa under these provisions. Only certain applicants seeking E nonimmigrant treaty trader/investor visas to the United States will complete Form DS-156E.

Methodology

After completing Form DS-160, Online Nonimmigrant Visa Application, applicants can access the DS- 156E online, print a copy of the form, and then submit it in person, via email, or via mail, depending on the procedures at the relevant consulate or embassy.

Signer's Name (usually Bureau DAS or Executive Director)

Julie M Stufft,
Deputy Assistant Secretary, Bureau of Consular Affairs, Department of State.

[FR Doc. 2024-09098 Filed 4-26-24; 8:45 am]

BILLING CODE 4710-06-P